DEPARTMENT OF ENERGY

Senior Executive Service; Performance Review Board

AGENCY: U. S. Department of Energy.

ACTION: SES Performance Review Board Standing Register.

SUMMARY: This notice provides the Performance Review Board Standing Register for the Department of Energy. This listing supersedes all previously published lists of PRB members.

EFFECTIVE DATE: These appointments are effective as of September 30, 2001.

Acharya, Sarbeswar NMN

Allison, Jeffrey M

Anderson, Charles E

Anderson, James L

Anderson, Margot H

Aoki, Steven

Arkin, Richard W

Armstrong, M Brent

Arthur III, William John

Ascanio, Xavier

Baca, Frank A

Baca, Mark C

Bailey JR, Lawrence O

Bajura, Rita A

Baker, Kenneth E

Ballard, William W

Barker JR, William L

Barrett, Lake H

Bauer, Carl O

Bauer, Linda K

Beckett, Thomas H

Beecy, David J

Bergholz JR, Warren E

Bernard, Peter A

Berube, Raymond P

Bielan, Douglas J

Bilson, Helen E

Black, Richard L

Black, Steven K

Blackwood, Edward B

Bladow, Joel K

Boardman, Karen L

Borchardt, Charles A

Borgstrom, Carol M

Borgstrom, Howard G

Bornhoft JR, Budd B

Boston, Harry L

Bowman, Gerald C

Boyd, Gerald G

Braden JR, Robert C

Bradley JR, Theron M

Bradley, Samuel M

Brechbill, Susan R

Brewer, Robert H

Breznay, George B

Brice, James F

Brocoum, Stephan J

Brodman, John R

Bronstein, Eli B

Brown III, Robert J

Brown, Frederick R

Brumley, William J

Bubar, Patrice M

Burns, Allen L

Burrows, Charles W

Butler, Jerome M

Campbell, Elizabeth E

Campbell, James Thomas

Carabetta, Ralph A

Caravelli, John M

Cardinali, Henry A

Carlson, John T

Carlson, Kathleen Ann

Cary, Steven V

Cavanagh, James J

Chacey, Kenneth A

Chaney, Kimberly A Hayes

Christensen, William J

Christopher, Robert K

Chun, Sun W

Clark, John R

Clausen, Max Jon

Coburn, Leonard L

Combs, Marshall O

Cook, Beverly Ann

Cook, John S

Corey, Ray J

Costlow, Brian D

Cowan, Gwendolyn S

Craig JR, Jack R

Crandall, David H

Crawford, David W

Cross, Claudia A

Crowe, Richard C

Cumesty, Edward G

Cureton, Linda Y

Curtis, James H

Cygelman, Andre I

D'agostino, Thomas

Dalton, Henry F

Darugh, David G

Davies, Nelia A

Davis, James T

De Lorenzo, Ralph H

Decker, James F

Dedik, Patricia

Degrasse Jr, Robert W

Dehmer, Patricia M

Dehoratiis Jr, Guido

Deihl, Michael A

Delwiche, Gregory K

Dempsey, Robert D

Dennison, William J

Der, Victor K

Desmond Jr, William J

Dever, Gertrude L

Difiglio, Carmen NMN

Dirks, Timothy M

Dixon, Robert K

Doherty, Donald P

Domagala, Martin J

Dooley III, George J

Durnan, Denis D

Dyer, J Russell

Eberwein, Catherine D

Edmondson, John J

Edwards, Christina J

Egger, Mary H

Elwood, Jerry W

Erickson, Leif

Erickson, Ralph E

Esvelt, Terence G

Faulkner, Douglas L

Fiore, James J

Fitzgerald, Cheryl P

Folker, Robert D

Fowler, Jennifer Johnson

Franklin, Charles Anson

Frazier, Marvin E

Frei, Mark W

Fryberger, Teresa

Furiga, Richard D

Fygi, Eric J

Gale, Barry G

Garcia, Marvin L

Garland, Robert W

Garson, Henry K

Gebus, George R

Geidl, John C

Gibson Jr, William C

Gilbertson, Mark A

Ginsberg, Mark B

Glass, Richard E

Glenn, Daniel E

Glotfelty, James W

Golan, Paul M

Goldenberg, Neal NMN

Goldenberg, Ralph D

Goldsmith, Robert NMN

Gollomp, Lawrence A

Goodrum, William S

Gottlieb, Paul A

Greenwood, Johnnie D

Gross, Thomas J

Guidice, Carl W

Gunn Jr, Marvin E

Gurule, David A

Haberman, Norton NMN

Hacskaylo, Michael S

Hafner, Steven C

Hamer Jr, David L

Hansen, Charles A

Hardin, Michael G

Hardwick Jr, Raymond J

Hartman, James K

Harvey, John R

Haspel, Abraham E

Hawkins, Francis C

Headley, Larry C

Heenan, Thomas F

Henderson, Lynwood H

Hensley Jr, Willie F

Hickok, Steven G

Hirahara, James S

Hoffman, Allan R

Holland, Michael D

Hollowell, Betty L N

Hooper, Michael K

Hopf, Richard H

Horton, Donald G

Huizenga, David G

Hunemuller, Maureen A

Hutzler, Mary Jean

Izell, Kathy D

Jaffe, Harold

Jenkins, Robert G

Johnson, Frederick M

Johnson, Milton D

Johnson, Owen B

Johnson, Robert Shane

Johnson, Sandra L

Johnston, Marc

Jones, C Rick

Jones, Marcus E

Joseph, Antionette Grayso

Juarez, Liova D

Juckett, Donald A

Judge, Geoffrey J

Kane, Michael C

Kelliher, Joseph T

Kennedy, John P

Kight, Gene H

Kilgore, Webster C

Kilpatrick, Michael A

Kirkman, Larry D

Kirk, Robert S

Klein, Keith A

Klein, Susan Elaine

Knipp, Robert M

Knollmeyer, Peter M

Knutson, Karen Y

Konopnicki, Thad T

Kovar, Dennis G

Kripowicz, Robert S

Kruger, Paul W

Kuckuck, Robert W

Landers, James C

Lane, Anthony R

Lange, Robert G

Lawrence, Andrew C

Lee, Steven NMN

Lehman, Daniel R

Levin Jr, William B

Lewis Jr, William A

Lewis, Roger A

Lien, Stephen CT

Lightner, Ralph G

Longsworth, Paul M

Lopatto, Jeanne T

Lowe, Owen W

Lundquist, Andrew D

Lyle, Jerry L

Maguire, Joseph J

Magwood IV, William D

Mahaley, Joseph S

Maher, Mark W

Male, Barbara D

Malosh, George J

Mangeno, James J

Mann, Thomas O

Marcus, Gail H

Marianelli, Robert S

Markel Jr, Kenneth E

Marks Jr, David L

Marlay, Robert C

Marmolejos, Poli A

Masterson, Mary A

Mazurowski, Barbara A

McBroom, John M

McCloud, Floyd R

McCracken, Stephen H

McCutcheon II, John H

McKee, Barbara N

McMonigle, Joseph P

McRae, James Bennett

McSlarrow, Kyle E

Meeks, Timothy J

Mellington, Suzanne P

Michelsen, Stephen J

Miller, Clarence L

Miller, Deborah C

Millhone, John P

Millman, William S

Milner, Ronald A

Miotla, Dennis M

Monette, Deborah D

Monhart, Jane L

Moorer, Richard F

Morgan, Jean M

Morris, Marcia L

Morrow, Margaret K

Mosquera, James P

Mournighan, Stephen D

Murphie, William E

Murphy, Alice Q

Murphy, Robert E

Nealy, Carson L

Neilsen, Finn K

Nelson, Rodney R

Nichols, Clayton R

Nolan, Elizabeth A

Norman, Paul E

Nulton, John D

O'Brien, Betsy K

O'Fallon, John R

Olinger, Shirley J

Oliver, Lawrence R

Oliver, Stephen R

Oosterman, Carl H

Ott, Merrie Christine

Owendoff, James M

Owen, Michael W

Owens, Karen A

Parks Jr, William P

Patrinos, Aristides A

Pearson, Orin F

Pease, Harrison G

Penry, Judith M

Perin, Stephen G

Pettengill, Harry J

Piper II, Lloyd L

Podonsky, Glenn S

Poe, Robert W

Powers, James G

Powers, Kenneth W

Price Jr, Robert S

Provencher, Richard B

Prudom, Gerald H

Przybylek, Charles S

Pumphrey, David L

Rabben, Robert G

Rapuano, Kenneth P

Reed, Craig R

Rhoderick, Jay E

Roberts, Michael NMN

Robison, Sally A

Rodeheaver, Thomas N

Rodekohr, Mark E

Rodgers, Stephen J

Rollow, Thomas A

Rooney, John M

Rosen, Simon Peter

Rosselli, Robert M

Rudins, George NMN

Rudy, Gregory P

Rudzinski, Suzanne M

Ryder, Thomas S

Salmon, Jeffrey T

Salm, Philip E

Sato, Walter N

Scalingi, Paula L

Schepens, Roy J

Schmitt, Eugene C

Schmitt, William A

Schnapp, Robert M

Schoenbauer, Martin J

Schwier, Jean F

Scott, Randal S

Sellers, Elizabeth D

Shearer, Elizabeth L

Sherman, Helen O

Siebert Jr, Arlie B

Silbergleid, Steven A

Singer, Marvin I

Siskin, Edward J

Sitzer, Scott B

Skubel, Stephen C

Smith, Alan C

Smith, Alexandra B

Smith, Barry Alan

Smith, Stephen M

Sohinki, Stephen M

Solich, Donald J

Stadler, Silas D

Staffin, Robin NMN

Stallman, Robert M

Stark, Richard M

Stewart Jr, Jake W

Stewart Jr, Frank M

Stone, Barbara R

Strakey Jr, Joseph P

Strauss, Neal J

Sullivan, John R

Sweeney II, James R

Swift, Justin R

Swink, Denise F

Sye, Linda G

Sylvester, William G

Taboas, Anibal L

Tavares, Antonio F

Taylor, William J

Tedrow, Richard T

Thomas, Iran L

Todd, John C

Torkos, Thomas M

Trautman, Stephen J

Triay, Ines R

Tryon, Arthur E

Tseng, John C

Turi, James A

Turner, James M

Underwood, William R

Vagts, Kenneth A

Valdez, William J

Van Fleet, James L

Vanzandt, Vickie A

Wagner, M Patrice

Wahlquist, Earl J

Waisley, Sandra L

Waldron, Robert E

Walsh, Robert J

Warnick, Walter L

Wegner, Gerald C

Weis, Michael J

Whatley, Michael D

Whitaker Jr, Mark B

White, James K

Whiteman, Albert E

Wieker, Thomas L

Wilcher, Larry D

Wilken, Daniel H

Williams, Alice C

Williams, Mark H

Willingham Jr, Frank M

Willis, John W

Wilmot, Edwin L

Worthington, Patricia R

Wright, Stephen J

Wu, Jeremy S

Wunderlich, Robert C

Yuan-Soo Hoo, Camille C

Zamorski, Michael J

Ziesing, Rolf F

Issued in Washington, DC, November 1, 2001.
Christina J. Edwards,
Principal Deputy Director, Office of Management, Budget and Evaluation.

[FR Doc. 01-27966 Filed 11-6-01; 8:45 am]

BILLING CODE 6450-01-P